DEPARTMENT OF ENERGY

Federal Energy Regulatory Commission

Combined Notice of Filings #2

Take notice that the Commission received the following electric rate filings:

Docket Numbers: ER13-1033-000.

Applicants: Linden VFT, LLC, PJM Interconnection, L.L.C.

Description: Linden VFT submits revisions to PJM OATT Schedule 16 to be effective 7/1/2013.

Filed Date: 3/5/13.

Accession Number: 20130305-5061.

Comments Due: 5 p.m. ET 3/26/13.

Docket Numbers: ER13-1034-000.

Applicants: California Independent System Operator Corporation.

Description: 2013-03-05 Concurrence with Blue Sky Ranch SGIA to be effective 7/6/2012.

Filed Date: 3/5/13.

Accession Number: 20130305-5076.

Comments Due: 5 p.m. ET 3/26/13.

Docket Numbers: ER13-1035-000.

Applicants: Palmco Power CA, LLC.

Description: Palmco Power CA FERC Electric Tariff to be effective 3/5/2013.

Filed Date: 3/5/13.

Accession Number: 20130305-5077.

Comments Due: 5 p.m. ET 3/26/13.

Docket Numbers: ER13-1036-000.

Applicants: California Independent System Operator Corporation.

Description: 2013-03-05—Concurrence with Dry Ranch SGIA to be effective 7/6/2012.

Filed Date: 3/5/13.

Accession Number: 20130305-5078.

Comments Due: 5 p.m. ET 3/26/13.

Docket Numbers: ER13-1037-000.

Applicants: Southwestern Public Service Company.

Description: 2013-3-5-GSEC-E&P-Mustang VI-0.1.0-NOC-Filing to be effective 3/6/2013.

Filed Date: 3/5/13.

Accession Number: 20130305-5083.

Comments Due: 5 p.m. ET 3/26/13.

Docket Numbers: ER13-1038-000.

Applicants: Pennsylvania Electric Company.

Description: Pennsylvania Electric Company submits Notice of Cancellation of Rate Schedule No. 74 with American Municipal Power, Inc.

Filed Date: 3/5/13.

Accession Number: 20130305-5100.

Comments Due: 5 p.m. ET 3/26/13.

Docket Numbers: ER13-1039-000.

Applicants: PJM Interconnection, L.L.C.

Description: Original Service Agreement No. 3512; Queue No. X2-038 to be effective 2/7/2013.

Filed Date: 3/5/13.

Accession Number: 20130305-5104.

Comments Due: 5 p.m. ET 3/26/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2013.
Nathaniel J. Davis, Sr.,
Deputy Secretary.

[FR Doc. 2013-05858 Filed 3-13-13; 8:45 am]

BILLING CODE 6717-01-P